DEPARTMENT OF ENERGY

Federal Energy Regulatory Commission

[Docket Nos. ES06-10-000, et al.]

Southern Power Company, et al.; Electric Rate and Corporate Filings

December 16, 2005.

The following filings have been made with the Commission. The filings are listed in ascending order within each docket classification.

1. Southern Power Company

[Docket No. ES06-10-000]

Take notice that on December 6, 2005, Southern Power Company (Southern Power) submitted an application pursuant to section 204 of the Federal Power Act seeking authorization to issue: (1) Common stock, preferred stock, preference stock, preferred securities, secured and unsecured long-term debt securities and revenue bonds in an amount not to exceed $500 million; and (2) short-term and term loan notes and commercial paper in an amount not to exceed $500 million outstanding at any one time.

Southern Power also requests a waiver from the Commission's competitive bidding and negotiated placement requirements at 18 CFR 34.2.

Comment Date: 5 p.m. Eastern Time on January 4, 2006.

2. Old Dominion Electric Cooperative

[Docket No. ES06-11-000]

Take notice that on December 6, 2005, Old Dominion Electric Cooperative (Old Dominion) submitted an application pursuant to section 204 of the Federal Power Act seeking authorization for certain transactions in order to refinance an existing lease and leaseback transaction.

Old Dominion also requests a waiver from the Commission's competitive bidding and negotiated placement requirements at 18 CFR 34.2.

Comment Date: 5 p.m. Eastern Time on January 4, 2006.

3. Central Maine Power Company

[Docket No. ES06-12-000]

Take notice that on December 7, 2005, Central Maine Power Company (Central Maine) submitted an application pursuant to section 204 of the Federal Power Act seeking authorization to issue secured and unsecured short-term debt in an amount not to exceed $150 million outstanding at any one time.

Comment Date: 5 p.m. Eastern Time on January 5, 2006.

4. New York State Electric & Gas Corporation

[Docket No. ES06-13-000]

Take notice that on December 7, 2005, New York State Electric and Gas Corporation (New York) submitted an application pursuant to section 204 of the Federal Power Act seeking authorization to issue secured and unsecured short-term debt in an amount not to exceed $275 million outstanding at any one time.

Comment Date: 5 p.m. Eastern Time on January 5, 2006.

5. Rochester Gas and Electric Corporation

[Docket No. ES06-14-000]

Take notice that on December 7, 2005, Rochester Gas and Electric Corporation (Rochester) submitted an application pursuant to section 204 of the Federal Power Act seeking authorization to issue secured and unsecured short-term debt in an amount not to exceed $200 million outstanding at any one time.

Comment Date: 5 p.m. Eastern Time on January 5, 2006.

6. Commonwealth Edison Company

[Docket No. ES06-15-000]

Take notice that on December 7, 2005, Commonwealth Edison Company (Commonwealth Edison) submitted an application pursuant to section 204 of the Federal Power Act seeking authorization to issue promissory notes and other evidences of secured and unsecured indebtedness in an amount not to exceed $2.5 billion outstanding at any one time.

Comment Date: 5 p.m. Eastern Time on January 5, 2006.

7. PECO Energy Company

[Docket No. ES06-16-000]

Take notice that on December 7, 2005, PECO Energy Company (PECO) submitted an application pursuant to section 204 of the Federal Power Act seeking authorization to issue promissory notes and other evidences of secured and unsecured indebtedness in an amount not to exceed $1.5 billion outstanding at any one time.

Comment Date: 5 p.m. Eastern Time on January 5, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-7902 Filed 12-27-05; 8:45 am]

BILLING CODE 6717-01-P